DEPARTMENT OF ENERGY

Federal Energy Regulatory Commission

[Docket No. EL06-89-000]

Californians for Renewable Energy, Inc., Complainants v. California Independent System Operator, Respondent; Notice of Amended Complaint

September 8, 2006.

Take notice that on September 5, 2006, Californians for Renewable Energy, Inc. (CARE) filed an amendment to its July 24, 2006 complaint against the California Independent System Operator Corporation (CAISO). CARE states that it is filing this amendment to provide additional information describing the violation of due process and equal protection under the laws of California and the United States federal government that has occurred during the CEC siting process.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Comment Date: 5 p.m. Eastern Time on September 25, 2006.

Magalie R. Salas,
Secretary.

[FR Doc. E6-15382 Filed 9-15-06; 8:45 am]

BILLING CODE 6717-01-P